FEDERAL EMERGENCY MANAGEMENT AGENCY

[FEMA-1354-DR]

Arkansas; Amendment No. 5 to Notice of a Major Disaster Declaration

AGENCY: Federal Emergency Management Agency (FEMA).

ACTION: Notice.

SUMMARY: This notice amends the notice of a major disaster for the State of Arkansas, (FEMA-1354-DR), dated December 29, 2000, and related determinations.

EFFECTIVE DATE: January 10,2001.

FOR FURTHER INFORMATION CONTACT: Madge Dale, Response and Recovery Directorate, Federal Emergency Management Agency, Washington, DC 20472, (202) 646-3772.

SUPPLEMENTARY INFORMATION: The notice is hereby given that, in a letter dated January 10, 2001, the President amended the cost-sharing arrangements concerning Federal funds provided under the authority of the Robert T. Stafford Disaster Relief and Emergency Assistance Act, 42 U.S.C. 5121, et seq., as amended by the Disaster Mitigation Act of 2000, Pub. L. No. 106-390, 114 Stat. 1552 (2000), in a letter to James L. Witt, Director of the Federal Emergency Management Agency, as follows:

I have determined that the damage in certain areas of the State of Arkansas resulting from a severe winter ice storm beginning on December 12, 2000, and continuing through January 8, 2001, is of sufficient severity and magnitude that the provision of additional Federal assistance to ensure public health and safety is warranted under the Robert T. Stafford Disaster Relief and Emergency Assistance Act, 42 U.S.C. 5121, et seq., as amended by the Disaster Mitigation Act of 2000, Pub. L. No. 106-390, 114 Stat. 1552 (2000) (Stafford Act).

Therefore, I amend my declaration of December 29, 2000, to provide that the Federal Emergency Management Agency (FEMA) may reimburse 90 percent of the costs of debris removal from December 29, 2000, through and including February 27, 2001. This adjustment of the cost share may be provided to all counties under the major disaster declaration. You may extend this assistance for an additional period of time, if requested and warranted.

Please notify the Governor of Arkansas and the Federal Coordinating Officer of this amendment to my major disaster declaration.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)
James L. Witt,
Director.

[FR Doc. 01-3929 Filed 2-15-01; 8:45 am]

BILLING CODE 6718-02-P